DEPARTMENT OF AGRICULTURE

Forest Service

Ochoco National Forest, Lookout Mountain Ranger District; Oregon; McKay Fuels and Vegetation Management Project EIS

AGENCY: Forest Service, USDA.

ACTION: Notice of intent to prepare an environmental impact statement.

SUMMARY: The Ochoco National Forest is preparing an environmental impact statement (EIS) to analyze the effects of managing fuels and vegetation within the 25,526-acre McKay project area, which is about 11 miles northeast of Prineville, Oregon. The project area includes National Forest System lands in the McKay Watershed. The alternatives that will be analyzed include the proposed action, no action, and additional alternatives that respond to issues generated through the scoping process. The Ochoco National Forest will give notice of the full environmental analysis and decision making process so interested and affected people may participate and contribute to the final decision.

DATES: Comments concerning the scope of the analysis must be received by March 1, 2012. The draft environmental impact statement is expected to be completed and available for public comment in November, 2012. The final environmental impact statement is expected to be completed in February, 2013.

ADDRESSES: Send written comments to Slater Turner, District Ranger, Lookout Mountain District, Ochoco National Forest, 3160 NE. Third Street, Prineville, Oregon 97754. Alternately, electronic comments may be sent to comments-pacificnorthwest-ochoco@fs.fed.us. Electronic comments must be submitted as part of the actual email message, or as an attachment in plain text (.txt), Microsoft Word (.doc), rich text format (.rtf), or portable document format (.pdf).

FOR FURTHER INFORMATION CONTACT: Marcy Anderson, Project Leader, at 3160 NE. Third Street, Prineville, Oregon 97754, or at (541) 416-6463, or by email at marcelleanderson@fs.fed.us.

SUPPLEMENTARY INFORMATION:

Purpose and Need for Action

The existing condition of the McKay Watershed was evaluated in 2006 and documented in the McKay Watershed Analysis. The Watershed Analysis (WA) determined that vegetation conditions in the watershed have departed from the historic condition in several ways:

• Changes in tree species compositions.

• A reduction in late and old structured forest.

• A reduction in open-canopy stands.

• An increased risk of large-scale loss of forest to wildfire.

• An increased risk of insect infestation and/or disease that can impact forested stands.

• Areas where dwarf mistletoe in overstory trees is affecting the growth and sustainability of the next generation of trees.

• A reduction in upland shrub habitat.

• A decline in the condition of riparian vegetation.

The project area contains McKay and Little McKay creeks, both of which are on the Oregon Department of Environmental Quality's 303(d) list of water quality limited waters; both streams are listed due to high summer water temperatures. Stream temperature can be affected by stream shade, which may be provided by riparian vegetation. Riparian vegetation, especially deep-rooted hardwoods, contributes to bank stability and stream structure and also provides important habitat for many bird species. Large conifers near streams eventually fall and contribute to instream wood, which is an important component of fish habitat and contributor to stream form and function. Streams in the McKay Watershed are often deficient in streamside vegetation, due to recreation and past management. Large conifers along streams are at risk of loss due to understory competition and fuels accumulation.

Based upon direction from the Ochoco Forest Plan and opportunities identified in the McKay WA, the Lookout Mountain Ranger District has determined that within the McKay project area:

1. There is a need to strategically reduce forest vegetation density and fuel loadings to reduce the risk that disturbance events such as insect, disease and wildfire will lead to a loss of desired forest conditions.

2. There is a need to increase or maintain large tree structure and hardwood abundance and diversity in RHCAs while meeting the need identified in point #1.

3. There is a need to contribute to the local and regional economies by providing timber and other wood fiber products now and in the future.

Proposed Action

The proposed action includes a variety of management strategies and activities, including commercial thinning with follow-up precommercial thinning and/or slash treatment (3,573 acres), mistletoe reduction harvest/overstory removal (205 acres), precommercial thinning with slash treatment (1,724 acres), juniper removal with slash treatment (2,944 acres), prescribed burning (1,222 acres), small-diameter thinning, limbing, handpiling and burning (210 acres), thinning with fire (853 acres), and hardwood and riparian vegetation enhancement (12 locations of various sizes). Implementation of the proposed action would require some connected actions; these include use of temporary roads on existing disturbance (6 miles), use of a new temporary road (1 mile), road reconstruction (3 miles), and streambank stabilization at a proposed crossing (1 location).

Responsible Official

The responsible official will be Kate Klein, Forest Supervisor, Ochoco National Forest, 3160 NE. Third Street, Prineville, Oregon 97754.

Nature of Decision To Be Made

Given the purpose and need, the deciding official will review the proposed action, the other alternatives, and the environmental consequences in order to decide whether and under what circumstances fuels and vegetation management will be implemented in the McKay Fuels and Vegetation project area.

Preliminary Issues

The project's interdisciplinary team has developed a list of preliminary issues that will be used during the analysis of effects. Other issues may arise as a result of public comment and further analysis. Preliminary issues include:

• Invasive Plant Species (Noxious Weeds). Several populations of noxious weeds are known to exist within the project area. There is a risk that management activities may exacerbate the weed situation by spreading existing populations or introducing new ones.

• Peck's Mariposa Lily. Management activities can improve habitat for this sensitive species, but also risk impacting individual plants and/or habitat where it occurs in the project area.

• Soil Productivity. Maintenance of soil productivity is an important objective for management of National Forest Lands. When mechanized equipment is used in the Forest, soil can become displaced and compacted, which can impact productivity.

• Water Quality. The main streams in the project area, McKay and Little McKay Creeks, are listed on Oregon DEQ's 303(d) list due to high summer temperatures. Management activities can result in reduced shade on streams, as well as contribute sediment into the streams, which impacts water quality and decreases habitat quality for fish and other riparian fauna.

• Wildlife Habitat. Activities intended to improve forest health and resiliency may reduce habitat effectiveness for some wildlife species, including forest raptors and big game.

• Economics. In the current economy, markets for wood products are severely depressed. Some forest work is extremely labor-intensive and the Forest Service depends on these markets to pay for the work that is needed to improve forest health and reduce fuels.

Scoping Process

This notice of intent initiates the scoping process, which guides the development of the environmental impact statement. At this time, the Ochoco National Forest plans to hold a public field trip to the project area in the late spring or early summer of 2012; details will be made public closer to that time.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered.

Dated: January 25, 2012.
Slater R. Turner,
District Ranger.

[FR Doc. 2012-2009 Filed 1-30-12; 8:45 am]

BILLING CODE 3410-11-P